DEPARTMENT OF TRANSPORTATION

Federal Highway Administration and Federal Aviation Administration

Environmental Impact Statement: Cook and DuPage Counties, Illinois

AGENCIES: Federal Highway Administration (FHWA) and Federal Aviation Administration (FAA), DOT

ACTION: Notice of Intent to Prepare an Environmental Impact Statement

SUMMARY: The FHWA and FAA are issuing this notice to advise the public that a Tier Two Environmental Impact Statement will be prepared for the Elgin O'Hare—West Bypass in Cook and DuPage Counties, Illinois.

FOR FURTHER INFORMATION CONTACT: Norman R. Stoner, P.E., Division Administrator, Federal Highway Administration, 3250 Executive Park Drive, Springfield, Illinois 62703, Phone: (217) 492-4600. Jim Keefer, Manager, Chicago Airports District Office, Federal Aviation Administration, 2300 East Devon Avenue, Des Plaines, Illinois 60018, Phone: (847) 294-7336. Diane M. O'Keefe, P.E., Deputy Director of Highways, Region One Engineer, Illinois Department of Transportation, 201 West Center Court, Schaumburg, Illinois 60196, Phone: (847) 705-4110.

SUPPLEMENTARY INFORMATION: The FHWA and FAA, in cooperation with the Illinois Department of Transportation (IDOT), will prepare a Tier Two Environmental Impact Statement (EIS) for the proposed Elgin O'Hare—West Bypass. The study area for the EIS is along the Elgin-O'Hare Expressway/Thorndale Avenue between Chicago O'Hare International Airport (O'Hare) and Lake Street/US Route 20, and on a proposed alignment connecting I-90 and I-294 along the west side of O'Hare. The Tier Two EIS will present further detail on the alternatives for the preferred transportation system concept that resulted from the Tier One EIS, an evaluation of the environmental impacts of the alternatives, and actions for mitigating project impacts to environmental resources.

The primary environmental resources that may be affected are: residential, commercial, and industrial properties; streams and floodplains; wetlands; and open space. This project is being developed using the Illinois Department of Transportation's Context Sensitive Solutions policy. Alternatives to be evaluated will include (1) taking no action and (2) complete transportation system alternatives for the Tier One corridor that include consideration of design options, financing options, construction sequencing options, and the inclusion of transit, bicycle and pedestrian facilities.

The Tier One Stakeholder Involvement Plan (SIP), which met the SAFETEA-LU Coordination Plan requirements, will be updated to ensure that a full range of issues related to Tier Two of this project are identified and addressed. The SIP provides meaningful opportunities for all stakeholders to participate in defining transportation issues and solutions for the study area. The Web site established for this project (http://www.elginohare-westbypass.org) is one element of the project public involvement program.

Comments or questions concerning this proposed action and the Tier Two EIS are invited from all interested parties and should be directed to the FHWA at the address provided above. The Tier Two Draft EIS will be available for public and agency review after its publication. A public hearing will be held during the public comment period for the draft EIS. Public notice will be given of the time and place of public meetings and hearing. The Tier Two EIS will conclude with the selection of a preferred alternative documented in the Record of Decision.

(Catalog of Federal Domestic Assistance Program Number 20.205, Highway Research, Planning and Construction. The regulations implementing Executive Order 12372 regarding intergovernmental consultation on Federal programs and activities apply to this program).

James G. Keefer,
Manager, Chicago Airports District Office, Federal Aviation Administration, Des Plaines, Illinois.
Issued on: May 26, 2011.
Norman R. Stoner,
Division Administrator, Federal Highway Administration, Springfield, Illinois.

[FR Doc. 2011-14207 Filed 6-7-11; 8:45 am]

BILLING CODE 4910-22-P